DEPARTMENT OF COMMERCE

International Trade Administration

[A-122-873, C-122-874]

Notice of Extension of the Deadline for Determining the Adequacy of the Antidumping and Countervailing Duty Petitions: Fresh Mushrooms From Canada

AGENCY: Enforcement and Compliance, International Trade Administration, Department of Commerce

DATES: Applicable December 15, 2025.

FOR FURTHER INFORMATION CONTACT: Kelsie Hohenberger or Gene Calvert, AD/CVD Operations, Enforcement and Compliance, International Trade Administration, U.S. Department of Commerce, 1401 Constitution Avenue NW, Washington, DC 20230; telephone: (202) 482-2517 or (202) 492-3586, respectively.

Extension of Initiation of Investigation

The Petitions

On September 16, 2025, the U.S. Department of Commerce (Commerce) received antidumping and countervailing duty petitions on imports of fresh mushrooms from Canada, filed in proper form on behalf of the Fresh Mushrooms Fair Trade Coalition and its individual members (collectively, the petitioners), domestic producers of fresh mushrooms.¹

¹ See Petitioners' Letter, “Petitions for the Imposition of Antidumping and Countervailing Duties,” dated September 16, 2025 (Petition). The individual members of the Fresh Mushrooms Fair Trade Coalition are Giorgio Fresh Co. (including Donna Bella Farms LLC and Giorgi Mushroom Co.), J-M Farms LLC, Kennett Square Mushroom Operation LLC, Modern Mushroom Farms, Inc., Needham's Mushroom Farms, Inc., and Sher-Rockee Mushroom Farms.

Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³

² See Memorandum, “Deadlines Affected by the Shutdown of the Federal Government,” dated November 14, 2025.

³ See Memorandum, “Tolling of All Case Deadlines,” dated November 24, 2025.

Determination of Industry Support for the Petitions

Sections 702(b)(1) and 732(b)(1) of the Tariff Act of 1930, as amended (the Act), require that a petition be filed by or on behalf of the domestic industry. To determine that the petition has been filed by or on behalf of the industry, sections 702(c)(4)(A) and 732(c)(4)(A) of the Act require that the domestic producers or workers who support the petition account for: (i) at least 25 percent of the total production of the domestic like product; and (ii) more than 50 percent of the production of the domestic like product produced by that portion of the industry expressing support for, or opposition to, the petition. Moreover, sections 702(c)(4)(D) and 732(c)(4)(D) of the Act provide that, if the petition does not establish support of domestic producers or workers accounting for more than 50 percent of the total production of the domestic like product, Commerce shall: (i) poll the industry or rely on other information in order to determine if there is support for the petition, as required by subparagraph (A); or (ii) if there is a large number of producers, determine industry support using a statistically valid sampling method to poll the industry.

Extension of Time

Sections 702(c)(1)(A) and 732(c)(1)(A) of the Act provide that within 20 days of the filing of an antidumping or countervailing duty petition, Commerce will determine, inter alia, whether the petition has been filed by or on behalf of the U.S. industry producing the domestic like product. Sections 702(c)(1)(B) and 732(c)(1)(B) of the Act provide that the deadline for the initiation determination, in exceptional circumstances, may be extended by 20 days in any case in which Commerce must “poll or otherwise determine support for the petition by the industry.” Because it is not clear from the Petitions whether the industry support criteria have been met, Commerce has determined it would be appropriate in these cases to poll the industry and extend the time period for determining whether to initiate the investigations in order to further examine the issue of industry support.

Commerce will need additional time to gather and analyze additional information regarding industry support. Therefore, it is necessary to extend the deadline for determining the adequacy of the Petitions by an additional 20 days. As a result, in accordance with sections 702(c)(1)(B) and 732(c)(1)(B) of the Act, Commerce's initiation determination will now be due no later than January 2, 2026.

International Trade Commission Notification

Commerce will contact the U.S. International Trade Commission (ITC) and will make this extension notice available to the ITC.

Dated: December 15, 2025.
Scot Fullerton
Acting Deputy Assistant Secretary for Antidumping and Countervailing Duty Operations.

[FR Doc. 2025-23640 Filed 12-22-25; 8:45 am]

BILLING CODE 3510-DS-P